DEPARTMENT OF THE INTERIOR

National Park Service

[NPS-IR1-GEWA-31966; PS.SNELA0102.00.1]

Minor Boundary Revision at George Washington Birthplace National Monument

AGENCY: National Park Service, Interior.

ACTION: Notification of boundary revision.

SUMMARY: The boundary of George Washington Birthplace National Monument is modified to include 1.01 acres (more or less) of land located in Colonial Beach, Westmoreland County, Virginia, immediately adjoining and being surrounded by the boundary of George Washington Birthplace National Monument. Subsequent to the boundary revision, the National Park Service will acquire the property from The Trust for Public Land, a non-profit organization.

DATES: The effective date of this boundary revision is November 17, 2021.

ADDRESSES: The map depicting this boundary revision is available for inspection at the following locations: National Park Service, Interior Region 1, Land Resources Program Center, 115 John Street, 5th Floor, Lowell, MA 01852, and National Park Service, Department of the Interior, 1849 C Street NW, Washington, DC 20240.

FOR FURTHER INFORMATION CONTACT: Realty Officer Jennifer Cherry, National Park Service, Interior Region 1, Land Resources Program Center, 115 John Street, 5th Floor, Lowell, MA 01852, telephone (978) 970-5260.

SUPPLEMENTARY INFORMATION: Notice is hereby given that, pursuant to 54 U.S.C. 100506(c), the boundary of George Washington Birthplace National Monument is modified to include one adjoining tract containing 1.01 acres of land, more or less. This boundary revision is depicted on Map No. 332/173,707, dated September 2020.

54 U.S.C. 100506(c) provides that, after notifying the House Committee on Natural Resources and the Senate Committee on Energy and Natural Resources, the Secretary of the Interior is authorized to make a boundary revision upon publication of notice in the Federal Register. The Committees have been notified of this boundary revision. This boundary revision and subsequent acquisition will ensure preservation and protection of the Park's historic and natural resources.

Deborah Conway,
Acting Regional Director, Interior Region 1.

[FR Doc. 2021-25043 Filed 11-16-21; 8:45 am]

BILLING CODE 4312-52-P